RECOVERY ACCOUNTABILITY AND TRANSPARENCY BOARD

Agency Information Collection Activities: Renewal of Currently Approved Collection; Comment Request

ACTION: Notice of submission to Office of Management and Budget and 30-day public comment period.

SUMMARY: The Recovery Accountability and Transparency Board (Board) is giving public notice that it will submit a currently approved information collection to the Office of Management and Budget (OMB) for renewal. The public and affected federal agencies are invited to comment on the proposed approval renewal pursuant to the Paperwork Reduction Act of 1995 (PRA).

DATES: Written comments must be submitted to OMB at the address below on or before April 18, 2013 to be assured of consideration.

ADDRESSES: Send all comments to Sharon Mar, Desk Officer for the Recovery Accountability and Transparency Board, Office of Management and Budget, New Executive Office Building, Washington, DC 20503; fax 202-395-5167; or email to smar@omb.eop.gov.

SUPPLEMENTARY INFORMATION: Pursuant to the PRA, the Board invites the general public and affected federal agencies to comment on the proposed information collection approval renewal. The Board published a previous notice of proposed information collection approval renewal on December 26, 2012, see 77 FR 76097 (Dec. 26, 2012), corrected at 78 FR 4175 (Jan. 18, 2013). No comments were received. On February 19, 2013, OMB granted the Board's request for an emergency extension of the information collection approval, extending the expiration date of the current approval from February 28, 2013, to March 31, 2013. The purpose of this notice is to allow for an additional 30 days for public comment pursuant to 5 CFR 1320.10.

In response to this notice, comments and suggestions should address one or more of the following points: (a) Whether the proposed information collection is necessary for the proper performance of the functions of the Board; (b) the accuracy of the Board's estimate of the burden of the proposed information collection; (c) ways to enhance the quality, utility, and clarity of the information to be collected; (d) ways to minimize the burden of the collection of information on respondents, including the use of information technology; and (e) whether small businesses are affected by this collection.

In this notice, the Board is soliciting comments concerning the following information collection:

Title of Collection: FederalReporting.gov Recipient Registration System.

ICR Reference No.: 200912-0430-001.

OMB Control No.: 0430-0002.

ICR Status: The approval for this information collection is scheduled to expire on 3/31/2013.

Description: Section 1512 of the American Recovery and Reinvestment Act of 2009, Public Law 111-5, 123 Stat. 115 (2009) (Recovery Act), requires recipients of Recovery Act funds to report on the use of those funds. These reports are submitted to FederalReporting.gov, and certain information from these reports is then posted to the publically available Web site Recovery.gov.

The FederalReporting.gov Recipient Registration System (FRRS) was developed to protect the Board and FederalReporting.gov users from individuals seeking to gain unauthorized access to user accounts on FederalReporting.gov. FRRS is used for the purpose of verifying the identity of the user; allowing users to establish an account on FederalReporting.gov; providing users access to their FederalReporting.gov account for reporting data; allowing users to customize, update, or terminate their accounts with FederalReporting.gov; and renewing or revoking a user's account on FederalReporting.gov, thereby protecting FederalReporting.gov and FederalReporting.gov users from potential harm caused by individuals with malicious intentions gaining unauthorized access to the system.

To assist in this goal, FRRS will collect a registrant's name, email address, telephone number and extension, three security questions and answers, and, by way of a DUNS number, organization information. The person registering for FederalReporting.gov will generate a self-assigned password that will be stored on the FRRS, but will only be accessible to the registering individual.

Affected Public: Private sector, and state, local, and tribal governments.

Total Estimated Number of Respondents: 1,000.

Frequency of Responses: Once.

Total Estimated Annual Burden Hours: 83.

Dated: March 14, 2013.
Atticus J. Reaser,
General Counsel, Recovery Accountability and Transparency Board.

[FR Doc. 2013-06278 Filed 3-18-13; 8:45 am]

BILLING CODE 6820-GA-P